FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 13, 2001.

A. Federal Reserve Bank of Atlanta (Cynthia C. Goodwin, Vice President) 1000 Peachtree Street, N.E., Atlanta, Georgia 30309-4470:

1. J. Vernon Johnson, Kaplan, Louisiana; to retain voting shares of Coastal Commerce Bancshares, Inc., Kaplan, Louisiana, and thereby indirectly retain voting shares of Kaplan State Bank, Kaplan, Louisiana.

B. Federal Reserve Bank of Dallas (W. Arthur Tribble, Vice President) 2200 North Pearl Street, Dallas, Texas 75201-2272:

1. Warren A. Armstrong, La Grange, Texas; Ted L. Bellmont, Houston, Texas; Max Baranowski, La Grange, Texas; Harvey R. Bohot, La Grange, Texas; Alfred H. Cordes, Jr., Houston, Texas; Charline Cordes, Houston, Texas; Fritz E. Finke and Aliene Maria Finke, Round Top, Texas; Aliene Maria Finke, Round Top, Texas; Leerie R. Giese, La Grange, Texas; William M. McBroom, M.D., La Grange, Texas; Joe Alfred Mihatsch, Jr., La Grange, Texas; Joseph Alfred Mihatsch, III, La Grange, Texas; Linda Ann Mihatsch, La Grange, Texas; Robert J. Svrcek and Carol J. Svrcek, La Grange, Texas; Jay Dee Tobias, La Grange, Texas; James E. Zapalac, La Grange, Texas; James E. Zapalac and Sheron A. Zapalac, La Grange, Texas; all acting in concert, to retain voting shares and to acquire additional voting shares of La Grange Bancshares, Inc., LaGrange, Texas, and thereby indirectly control voting shares of Colorado Valley Bank, LaGrange, Texas.

Board of Governors of the Federal Reserve System, August 24, 2001.
Robert deV. Frierson,
Deputy Secretary of the Board.

[FR Doc. 01-21874 Filed 8-29-01; 8:45 am]

BILLING CODE 6210-01-S